DEPARTMENT OF ENERGY

Federal Energy Regulatory Commission

Notice

July 10, 2002.

The following notice of meeting is published pursuant to section 3(a) of the government in the Sunshine Act (Pub. L. 94-409), 5 U.S.C 552B:

Agency Holding Meeting: Federal Energy Regulatory Commission.

Date and Time: July 17, 2002, 10:00 a.m.

Place: Room 2C, 888 First Street, NE., Washington, DC 20426.

Status: Open.

Matters to be Considered: Agenda.

Note: Items Listed on the agenda may be deleted without further notice.

Contact Person for More Information: Magalie R. Salas, Secretary, Telephone, (202) 208-0400. For a recording listing items stricken from or added to the meeting, call (202) 208-1627.

This is a list of matters to be considered by the Commission. It does not include a listing of all papers relevant to the items on the Agenda; However, all public documents may be examined in the Reference and Information Center.

799th Meeting—July 17, 2002; Regular Meeting 10:00 a.m.

Administrative Agenda

A-1.

Docket# AD02-1, 000, Agency Administrative Matters

A-2.

Docket# AD02-7, 000, Customer Matters, Reliability, Security and Market Operations

A-3.

Docket# AD02-20, 000, Western Market and Infrastructure Assessment

A-4.

Docket# RT01-88, 016, Alliance Companies

Other#s EL02-65, 000, Alliance Companies and National Grid USA

EL02-65, 002, Virginia Electric and Power Company

EL02-65, 003, Commonwealth Edison Company and Commonwealth Edison Company of Indiana

EL02-65, 004, FirstEnergy Corporation

EL02-65, 005, American Electric Power Services Corporation

EL02-65, 006, Ameren Services Company

EL02-65, 007, Ameren Services Company, FirstEnergy Corporation, Northern Indiana Public Service Company, Midwest Independent System Operator, Inc.

EL02-65, 008, PJM Interconnection, L.L.C., National Grid USA, American Electric Power Services Corporation, Commonwealth Edison Company and Commonwealth Edison Company of Indiana Illinois Power Company

A-5.

Docket# RT01-99, 000, Regional Transmission Organizations

Other#s RT01-99, 001, Regional Transmission Organizations

RT01-99, 002, Regional Transmission Organizations

RT01-99, 003, Regional Transmission Organizations

RT01-86, 000. Bangor Hydro-Electric Company, Central Maine Power Company, National Grid USA, Northeast Utilities Service Company, The United Illuminating Company and Vermont Electric Power Company and ISO New England Inc.

RT01-86, 001, Bangor Hydro-Electric Company, Central Maine Power Company, National Grid USA, Northeast Utilities Service Company, The United Illuminating Company and Vermont Electric Power Company and ISO New England Inc.

RT01-86, 002, Bangor Hydro-Electric Company, Central Maine Power Company, National Grid USA, Northeast Utilities Service Company, The United Illuminating Company and Vermont Electric Power Company and ISO New England Inc.

RT01-95, 000, New York Independent System Operator, Inc., Central Hudson Gas & Electric Corporation, Consolidated Edison Company of New York, Inc., Niagara Mohawk Power Corporation, New York State Electric & Gas Corporation, Orange & Rockland Utilities Inc. and Rochester Gas and Electric Corporation

RT01-95, 001, New York Independent System Operator, Inc., Central Hudson Gas & Electric Corporation, Consolidated Edison Company of New York, Inc., Niagara Mohawk Power Corporation, New York State Electric & Gas Corporation, Orange & Rockland Utilities Inc. and Rochester Gas and Electric Corporation

RT01-95, 002, New York Independent System Operator, Inc., Central Hudson Gas & Electric Corporation, Consolidated Edison Company of New York, Inc., Niagara Mohawk Power Corporation, New York State Electric & Gas Corporation, Orange & Rockland Utilities Inc. and Rochester Gas and Electric Corporation

RTO1-2, 000 PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.

RTO1-2, 001 PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.

RTO1-2, 002 PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.

RTO1-2, 003 PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.

RTO1-98, 000 PJM Interconnection, L.L.C.

RM01-12, 000 Electricity Market Design and Structure

Markets, Tariffs and Rates—Electric

E-1.

Reserved

E-2.

Docket# ER02-1899, 000, New York Independent System Operator, Inc.

E-3.

Omitted

E-4.

Docket# ER02-1913, 000, Nevada Power Company

E-5.

Docket# ER02-1919, 000, Oklahoma Gas and Electric Company

E-6.

Docket# ER02-1974, 000, Midwest Independent Transmission System Operator, Inc.

Other#s ER02-1975, 000, Midwest Independent Transmission System Operator, Inc.

E-7.

Omitted

E-8.

Docket# SC00-1, 003, NorthWestern Energy, LLC

E-9.

Docket# ER00-188, 000, PSI Energy, Inc.

Other#s ER00-188, 001, PSI Energy, Inc.

E-10.

Omitted

E-11.

Omitted

E-12.

Docket# ER02-711, 000, American Electric Power Service Corporation

Other#s ER02-711, 001, American Electric Power Service Corporation

E-13.

Docket# ER02-924, 000, Michigan Electric Transmission Company

E-14.

Docket# ER00-1969, 009, New York Independent System Operator, Inc.

Other#s ER00-1969, 012, New York Independent System Operator, Inc.

ER00-3591, 008, New York Independent System Operator, Inc.

ER00-3591, 010, New York Independent System Operator, Inc.

E-15.

Docket# ER02-11, 000, Pacific Gas and Electric Company

Other#s ER02-208, 000, Pacific Gas and Electric Company

E-16.

Docket# ER02-1963, 000, Midwest Independent Transmission System Operator, Inc.

E-17.

Docket# ER02-1656, 000, California Independent System Operator Corporation

Other#s EL01-68, 000, Investigation of Wholesale Rates of Public Utility Sellers of Energy and Ancillary Services in the Western Electricity Coordinating Council

E-18.

Docket# RT01-98, 002, PJM Interconnection L.L.C.

E-19.

Docket# ER02-139 003 Florida Power & Light Company

E-20.

Docket# ER01-3001, 001, New York Independent System Operator, Inc.

Other#s ER01-3001, 002, New York Independent System Operator, Inc.

E-21.

Docket# ER98-1440, 000, Central Vermont Public Service Corporation

E-22.

Docket# EC02-72, 000, NEO California Power LLC

Other#s EL02-92, 000, NEO California Power LLC

E-23.

Docket# TX96-4, 000, Suffolk County Electrical Agency

E-24.

Docket# TX97-5, 000, Tennessee Power Company

E-25.

Omitted

E-26.

Docket# TX97-8, 000, PECO Energy Company

Other#s TX97-8, 001, PECO Energy Company

E-27.

Docket# ER02-1420, 001, Midwest Independent Transmission System Operator, Inc.

E-28.

Docket# EL02-44, 001, Indeck Maine Energy, LLC v. ISO New England, Inc.

E-29.

Docket# ER02-935, 001, Florida Power & Light Company

Other#s ER02-935, 002, Florida Power & Light Company

ER02-2041, 000, Florida Power & Light Company

E-30.

Docket# ER02-854, 001, Florida Power & Light Company

Other#s ER02-854, 002, Florida Power & Light Company

E-31.

Docket# EL02-51, 001, California Electricity Oversight Board v. Williams Energy Services Corporation, AES Huntington Beach LLC, AES Alamitos LLC, AES Redondo Beach LLC, Mirant Americas Energy Marketing LP, Mirant Delta LLC, Reliant Energy Services, Inc., Reliant Energy Coolwater LLC, Reliant Energy Etiwanda LLC, Reliant Energy Mandalay LLC, Reliant Energy Ormand Beach LLC, Dynegy Power Marketing, Inc., Encina Power LLC, Calpine Corporation, Geysers Power Company LLC, Southern California Edison Company, All Other Public and Non-Public Utilities Who Own or Control Generation in California and Who Sell Through the Markets or Use The Transmission Lines Operated by the California Independent System Operator Corporation and All Scheduling Coordinators Acting on Behalf of the Above Entitles

E-32.

Docket# EL02-54, 001, San Diego Gas and Electric Company

E-33.

Docket# EL02-46, 001, Generator Coalition v. Entergy Services, Inc.

Other#s ER01-2201, 002, Entergy Services,Inc.

E-34.

Docket# EL02-60, 001, Public Utilities Commission of the State of California v. Sellers of Long Term Contracts to the California Department of Water Resources

Other#s EL02-62, 001, California Electricity Oversight Board v. Sellers of Energy and Capacity Under Long-Term Contracts With the California Department of Water Resources

E-35.

Docket# EL02-26, 001, Nevada Power Company and Sierra Pacific Power Company v. Duke Energy Trading and Marketing, Inc., Enron Power Marketing, Inc., El Paso Merchant Energy and American Electric Power Services Corporation

Other#s EL02-28, 001, Nevada Power Company and Sierra Pacific Power Company v. Duke Energy Trading and Marketing, Inc., Enron Power Marketing, Inc., El Paso Merchant Energy and American Electric Power Services Corporation

EL02-29, 001, Nevada Power Company v. Morgan Stanley Capital Group, Calpine Energy Services, Mirant Americas Energy Marketing, L.P., Reliant Energy Services, BP Energy Company and Allegheny Energy Supply Company, L.L.C.

EL02-30, 001, Nevada Power Company v. Morgan Stanley Capital Group, Calpine Energy Services, Mirant Americas Energy Marketing, L.P., Reliant Energy Services, BP Energy Company and Allegheny Energy Supply Company, L.L.C.

EL02-31, 001, Nevada Power Company v. Morgan Stanley Capital Group, Calpine Energy Services, Mirant Americas Energy Marketing, L.P., Reliant Energy Services, BP Energy Company and Allegheny Energy Supply Company, L.L.C.

EL02-32, 001, Nevada Power Company v. Morgan Stanley Capital Group, Calpine Energy Services, Mirant Americas Energy Marketing, L.P., Reliant Energy Services, BP Energy Company and Allegheny Energy Supply Company, L.L.C.

EL02-33, 001, Nevada Power Company and Sierra Pacific Power Company v. Duke Energy Trading and Marketing, Inc., Enron Power Marketing, Inc., El Paso Merchant Energy and American Electric Power Services Corporation

EL02-34, 001, Nevada Power Company v. Morgan Stanley Capital Group, Calpine Energy Services, Mirant Americas Energy Marketing, L.P., Reliant Energy Services, BP Energy Company and Allegheny Energy Supply Company, L.L.C.

EL02-38, 001, Nevada Power Company and Sierra Pacific Power Company v. Duke Energy Trading and Marketing, Inc., Enron Power Marketing, Inc., El Paso Merchant Energy and American

EL02-39, 001, Nevada Power Company v. Morgan Stanley Capital Group, Calpine Energy Services, Mirant Americas Energy Marketing, L.P., Reliant Energy Services, BP Energy Company and Allegheny Energy Supply Company, L.L.C.

EL02-43, 001, Southern California Water Company v. Mirant Americas Energy Marketing, L.P.

EL02-56, 001, Public Utility District No. 1 of Snohomish County, Washington v. Morgan Stanley Capital Group, Inc.

E-36.

Docket# RM01-8, 001, Revised Public Utility Filing Requirements

E-37.

Docket# ER97-1523, 003, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

Other#s OA97-470, 004, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

OA97-470, 005, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

OA97-470, 006, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

ER97-1523, 004, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

ER97-1523, 005, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

ER97-1523, 006, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

ER97-1523, 052, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

ER97-1523, 061, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

ER97-4234, 002, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

ER97-4234 003 Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

ER97-4234, 004, Central Hudson Gas & Electric Corporation, Consolidated Edison Company of New York, Inc., Long Island Lighting Company, New York State Electric and Gas Corporation, Mohawk Power Corporation, Orange and Rockland Utilities, Inc., Rochester Gas and Electric Corporation, New York Power Pool and New York Independent System Operator, Inc.

EC99-31, 001, New York Power Pool

E-38.

Docket# EL00-46, 001, Entergy Power Marketing Corporation v. Southwest Power Pool, Inc.

Other#S EL00-53, 001, Texas-New Mexico Power Company v. Public Service Company of New Mexico

ER00-1711, 001, Public Service Company of New Mexico

ER00-1829, 001, Southwest Power Pool, Inc.

E-39.

Docket# EF00-2013, 001, United States Department of Energy—Bonneville Power Administration

E-40.

Omitted

E-41.

Docket# ER01-2967, 001, New York Independent System Operator, Inc.

E-42.

Docket# ER02-648, 001, Sithe New Boston, LLC

E-43.

Docket# ER02-561, 001, Pacific Gas & Electric Company

E-44.

Docket# ER02-709, 001, Southwest Power Pool, Inc.

E-45.

Docket# EL00-95, 062, San Diego Gas & Electric Company v. Sellers of Energy and Ancillary Services Into Markets Operated by the California Independent System Operator and the California Power Exchange

Other#s EL00-95, 031, San Diego Gas & Electric Company v. Sellers of Energy and Ancillary Services Into Markets Operated by the California Independent System Operator and the California Power Exchange

EL00-95, 053, San Diego Gas & Electric Company v. Sellers of Energy and Ancillary Services Into Markets Operated by the California Independent System Operator and the California Power Exchange

EL00-95, 058, San Diego Gas & Electric Company v. Sellers of Energy and Ancillary Services Into Markets Operated by the California Independent System Operator and the California Power Exchange

EL00-98, 009, Investigation of Practices of the California Independent System Operator Corporation & the California Power Exchange

EL00-98, 033, Investigation of Practices of the California Independent System Operator Corporation & the California Power Exchange

EL00-98, 038, Investigation of Practices of California Independent System Operator Corporation & the California Power Exchange

EL00-98, 042, Investigation of Practices of the California Independent System Operator Corporation & the California Power Exchange

EL00-98, 047, Investigation of Practices of the California Independent System Operator Corporation & the California Power Exchange

EL00-98, 051, Investigation of Practices of the California Independent System Operator Corporation & the California Power Exchange

EL01-68, 012, Investigation of Wholesale Rates of Public Utility Sellers of Energy and Ancillary Services in the Western Systems Coordinating Council

EL01-68, 013, Investigation of Wholesale Rates of Public Utility Sellers of Energy and Ancillary Services in the Western Systems Coordinating Council

E-46.

Docket# ER00-2413, 008, American Electric Power Service Corporation

Other#s ER00-3435, 004, Carolina Power & Light Company

ER01-247, 006, Virginia Electric & Power Company

E-47.

Docket# NJ02-4, 000, Kansas Electric Power Cooperative, Inc.

E-48.

Docket# EL01-35, 000, Mirant Delta, LLC and Mirant Poltrero,LLC v. California Independent System Operator Corporation

Other#s EL00-95, 005, San Diego Gas & Electric Company v. Sellers of Energy and Ancillary Services Into Markets Operated by the California Independent System Operator and the California Power Exchange

EL00-95, 012, San Diego Gas & Electric Company v. Sellers of Energy and Ancillary Services Into Markets Operated by the California Independent System Operator and the California Power Exchange

EL00-95, 030, San Diego Gas & Electric Company v. Sellers of Energy and Ancillary Services Into Markets Operated by the California Independent System Operator and the California Power Exchange

EL00-98, 029, Investigation of Practices of the California Independent System Operator Corporation & the California Power Exchange

RT01-82, 000, San Diego Gas & Electric Company

RT01-83, 000, Pacific Gas and Electric Company

RT01-85, 000, California Independent System Operator Corporation

RT01-92, 000, Southern California Edison Company

ER01-1877, 000, California Independent System Operator Corporation

PA02-1, 000, Operational Audit of the California Independent System Operator Corporation

E-49.

Omitted

E-50.

Omitted

E-51.

Omitted

E-52.

Docket# EL02-1, 000, Golden Spread Electric Cooperative, Inc. V. Southwestern Public Service Company

Other#s EL02-21, 000, Southwestern Public Service Company v. Golden Spread Electric Cooperative, Inc.

E-53.

Docket# ER02-929, 000, Ameren Services Company

Other#s ER02-929, 001, Ameren Services Company

E-54.

Docket# EL00-62, 045, ISO New England Inc.

Other#s EL00-62, 041, ISO New England Inc.

Miscellaneous Agenda

M-1.

Docket# RM02-3, 000, Accounting and Reporting of Financial

Instruments, Comprehensive Income,

Derivatives and Hedging Activities

M-2.

Docket# RM02-10, 000, Electronic Registration

Markets, Tariffs and Rates—Gas

G-1.

Reserved

G-2.

Docket# PR02-11, 000, Jefferson Island Storage & Hub L.L.C.

Other#S PR02-11, 001, Jefferson Island Storage & Hub L.L.C.

G-3.

Docket# RP02-348, 000, Colorado Interstate Gas Company

G-4.

Docket# RP98-206, 008, Atlanta Gas Light Company

G-5.

Docket# RP00-327, 000, Columbia Gas Transmission Corporation

Other#S RP00-327, 002, Columbia Gas Transmission Corporation

RP00-604, 000, Columbia Gas Transmission Corporation

RP00-604, 001, Columbia Gas Transmission Corporation

RP00-604, 002, Columbia Gas Transmission Corporation

G-6.

Docket# RP00-393, 000, Eastern Shore Natural Gas Company

Other#S RP01-43, 000, Eastern Shore Natural Gas Company

RP01-43, 001, Eastern Shore Natural Gas Company

G-7.

Docket# RP00-329, 000, Great Lakes Gas Transmission L.P.

Other#S RP00-606, 000, Great Lakes Gas Transmission L.P.

RP00-606, 001, Great Lakes Gas Transmission L.P.

G-8.

Docket# RP00-488, 000, Portland Natural Gas Transmission System

Other#S RP01-50, 000, Portland Natural Gas Transmission System

RP01-50, 001, Portland Natural Gas Transmission System

G-9.

Docket# RP01-245, 007, Transcontinental Gas Pipe Line Corporation

Other#S CP01-34, 000, Transcontinental Gas Pipe Line Corporation

CP01-34, 003, Transcontinental Gas Pipe Line Corporation

CP01-103, 000, Transcontinental Gas Pipe Line Corporation

CP01-103, 002, Transcontinental Gas Pipe Line Corporation

RP01-245, 000, Transcontinental Gas Pipe Line Corporation

RP01-245, 005, Transcontinental Gas Pipe Line Corporation

RP01-245, 008, Transcontinental Gas Pipe Line Corporation

RP01-253, 000, Transcontinental Gas Pipe Line Corporation

RP01-253, 002, Transcontinental Gas Pipe Line Corporation

CP01-368, 000, Transcontinental Gas Pipe Line Corporation

CP01-368, 002, Transcontinental Gas Pipe Line Corporation

RP02-171, 000, Transcontinental Gas Pipe Line Corporation

RP02-171, 002, Transcontinental Gas Pipe Line Corporation

G-10.

Docket# RP00-632, 007, Dominion Transmission, Inc.

Other#S RP00-632, 009, Dominion Transmission, Inc.

G-11.

Docket# RP02-176, 001, Panhandle Eastern Pipe Line Company

G-12.

Docket# RP02-209, 001, Southern Natural Gas Company

G-13.

Docket# RP02-143, 001, Kansas Gas Service, a Division of ONEOK, Inc. v. Enbridge Pipelines KPC

G-14.

Docket# RP02-134, 002, Maritimes & Northeast Pipeline, L.L.C.

Other#S RP02-134, 001, Maritimes & Northeast Pipeline, L.L.C.

G-15.

Docket# RP97-287, 058, El Paso Natural Gas Company

G-16.

Docket# RM96-1, 022, Standards for Business Practices of Interstate Natural Gas Pipelines

G-17.

Docket# RP00-336, 005, El Paso Natural Gas Company

Other#S RP00-139, 003, KN Marketing, L.P. v. El Paso Natural Gas Company

RP01-484, 001, Aera Energy LLC, Amoco Production Company, BP Energy Company, Burlington Resources Oil & Gas Company, California Public Utilities Commission, Conoco Inc., Coral Energy Resources, L.P., El Paso Natural Gas Company, ONEOK Energy Marketing & Trading Co., L.P., Pacific Gas and Electric Company, Panda Gila River, L.P., Pacific Gas and Electric Company, Panda Gila River, L.P., Southern California Edison Company and Southern California Gas Company v. El Paso Natural Gas Company

RP01-486, 001, Apache Nitrogen Products, Inc., Arizona Electric Power Cooperative, Inc., Arizona Gas Division of Citizens Communications Company, BHP Copper Inc., El Paso Electric Company, El Paso Municipal Customer Group, Phelps Dodge Corporation, Public Service Company of New Mexico, Salt River Project and Southern Union Gas Company v. El Paso Natural Gas Company

G-18.

Docket# RP02-309, 000, Sunoco, Inc.(R&M) v. Transcontinental Gas Pipe Line Corporation

G-19.

Docket# PR02-12, 000, Dow Pipeline Company

G-20.

Docket# RP00-482, 002, Reliant Energy Gas Transmission Company

Other#S RP01-12, 002, Reliant Energy Gas Transmission Company

RP01-317, 003, Reliant Energy Gas Transmission Company

G-21.

Docket# RP97-288 009 Transwestern Pipeline Company

Other#s RP97-288, 010, Transwestern Pipeline Company

RP98-288, 011, Transwestern Pipeline Company

RP97-288, 012, Transwestern Pipeline Company

RP97-288, 013, Transwestern Pipeline Company

RP97-288, 014, Transwestern Pipeline Company

RP97-288, 015, Transwestern Pipeline Company

RP97-288, 016, Transwestern Pipeline Company

G-22.

Docket# RP02-164, 001, PG&E Gas Transmission, Northwest Corporation

G-23.

Docket# PR02-13, 000, Cincinnati Gas & Electric Company

G-24.

Docket# PL02-6, 000, Natural Gas Pipeline Negotiated Rate Policies and Practices

Energy Projects—Hydro

H-1.

Reserved

H-2.

Docket# P-2596, 005, Rochester Gas and Electric Corporation

Other#s P-2596, 003, Rochester Gas and Electric Corporation

H-3.

Docket# P-2622, 011, International Paper Company and Turners Falls Hydro LLC

H-4.

Omitted

H-5.

Omitted

H-6.

Docket# P-9974, 048, Halstead Construction, Inc.

H-7.

Docket# P-7856, 025, Potosi Generating Station, Inc. and Willow Creek Hydro, LLC

Energy Projects—Certificates

C-1.

Reserved

C-2.

Docket# CP02-60, 000, CMS Trunkline LNG Company, LLC

C-3.

Docket# CP01-69, 004, Petal Gas Storage, L.L.C.

C-4.

Docket# CP97-315, 006, Independence Pipeline Company

Other#s CP97-319, 004, ANR Pipeline Company

C-5.

Docket# CP01-422, 000, Kern River Gas Transmission Company

Other#s CP01-422, 001, Kern River Gas Transmission Company

Magalie R. Salas,
Secretary.

[FR Doc. 02-17970 Filed 7-12-02; 11:29 am]

BILLING CODE 6717-01-P